DEPARTMENT OF THE INTERIOR

Fish and Wildlife Service

[Docket No. FWS-R3-ES-2018-0037; FXES11130300000-189-FF03E00000]

Draft Environmental Impact Statement and Draft Habitat Conservation Plan; Receipt of an Application for an Incidental Take Permit for Midwestern Bat and Bird Species; MidAmerican Energy Company, Iowa

AGENCY: Fish and Wildlife Service, Interior.

ACTION: Notice of availability; request for comments.

SUMMARY: In accordance with the Endangered Species Act, as amended (ESA), and the National Environmental Policy Act (NEPA), we, the U.S. Fish and Wildlife Service (Service), announce the availability of a draft habitat conservation plan (HCP) in support of an application from MidAmerican Energy Company (applicant) for an incidental take permit (ITP) for the federally endangered Indiana bat, federally threatened northern long-eared bat, and federally protected bald eagle; also included in the permit would be the little brown bat and tricolored bat. The take is expected to result from operation of wind turbines in 22 counties in Iowa. Also available for review is the Service's draft environmental impact statement (DEIS), which was prepared in response to the application. We are seeking public comments on the draft HCP and DEIS.

DATES:

Submitting Comments: We will accept hardcopy comments received or postmarked on or before October 1, 2018. Comments submitted online at https://www.regulations.gov/ (see ADDRESSES) must be received by 11:59 p.m. Eastern Time on October 15, 2018.

Public Involvement: The Service will announce future meetings and any other public involvement activities at least 15 days in advance through public notices, media releases, mailings, and/or online postings at https://www.fws.gov/midwest/rockisland/te/MidAmericanHCP.html.

ADDRESSES: Obtaining Documents for Review: The documents this notice announces, as well as any comments and other materials that we receive, will be available for public inspection online in Docket No. FWS-R3-ES-2018-0037 at http://www.regulations.gov.

Submitting Comments: You may submit comments by one of the following methods:

• Online: http://www.regulations.gov. Follow the instructions for submitting comments on Docket No. FWS-R3-ES-2018-0037.

• U.S. mail or hand-delivery: Public Comments Processing, Attn: Docket No. FWS-R3-ES-2018-0037; U.S. Fish and Wildlife Service; MS: BPHC; 5275 Leesburg Pike, Falls Church, VA 22041-3803.

We will post all comments on http://www.regulations.gov. This generally means that we will post online any personal information that you provide (see Public Availability of Comments under SUPPLEMENTARY INFORMATION). We request that you send comments by only the methods described above.

Reviewing EPA comments on the draft HCP and DEIS: See EPA's Role in the EIS Process under SUPPLEMENTARY INFORMATION.

FOR FURTHER INFORMATION CONTACT: Amber Schorg or Kraig McPeek, by phone at 309-757-5800.

SUPPLEMENTARY INFORMATION: The Service has received an incidental take permit (ITP) application from the MidAmerican Energy Company in accordance with the requirements of the Endangered Species Act, as amended (ESA; 16 U.S.C. 1531 et seq.). The applicant has prepared a draft habitat conservation plan (HCP) in support of the ITP application and is seeking authorization for take of the federally endangered Indiana bat, federally threatened northern long-eared bat, and federally protected bald eagle, in addition to the little brown bat and tricolored bat. Little brown bat and tricolored bat are not federally protected, but they are currently being evaluated for protection under ESA. The applicant has chosen to include these as covered species, and they will be treated as if they were ESA listed. The ITP, if issued, would authorize incidental take of these species that may occur as a result of the operation of wind facilities in 22 Iowa counties over a 30-year permit term. The draft HCP describes how impacts to the covered species will be minimized and mitigated. The draft HCP also describes the covered species' life history and ecology, biological goals and objectives, the estimated take and its potential impact on covered species' populations, adaptive management and monitoring, and mitigation measures.

The Service has prepared a draft environmental impact statement (DEIS) in response to the ITP application in accordance with requirements of the National Environmental Policy Act (NEPA; 42 U.S.C. 4321 et seq.). We are making the draft HCP and the DEIS available for public review and comment.

Background

Section 9 of the ESA and its implementing regulations prohibit the “take” of animal species listed as endangered or threatened. Take is defined under the ESA as to “harass, harm, pursue, hunt, shoot, wound, kill, trap, capture, or collect listed animal species, or to attempt to engage in such conduct” (16 U.S.C. 1538). Under section 10(a)(1)(B) of the ESA, the Service may issue permits to authorize incidental take of listed species. Incidental take is defined by the ESA as take that is incidental to, and not the purpose of, carrying out an otherwise lawful activity.

Section 10(a)(1)(B) of the ESA contains provisions for issuing incidental take permits to non-Federal entities for the incidental take of endangered and threatened species, provided the following criteria are met: (a) The taking will be incidental; (b) the applicant will minimize and mitigate, to the maximum extent practicable, the impact of such taking; (c) the applicant will develop an HCP and ensure that adequate funding for the plan will be provided; (d) the taking will not appreciably reduce the likelihood of the survival and recovery of the species in the wild; and (e) the applicant will carry out any other measures that the Secretary of the Interior may require as being necessary or appropriate for the purposes of the HCP. An applicant may choose to cover nonlisted species in the HCP, and these species will be treated as ESA-listed species.

Proposed Action

We propose to issue a 30-year permit for incidental take of the Indiana bat, northern long-eared bat, bald eagle, little brown bat, and tricolored bat if the MidAmerican HCP meets all the section 10(a)(1)(B) permit issuance criteria. The permit would authorize the take of these species incidental to the applicant's operation of wind projects.

Applicant's Project

MidAmerican Energy currently operates 22 Projects in Iowa, consisting of 2,021 turbines that vary by type and project. Detailed descriptions of the projects are found in section 2.0 of the HCP. All projects and turbines are within the range of the northern long-eared bat, little brown bat, tricolored bat, and eagle. Four projects have turbines within Indiana bat range (375 turbines). MidAmerican has developed a conservation program to avoid, minimize, and mitigate for impacts to covered species. Bald eagle-specific avoidance and minimization measures will include carrion removal in the vicinity of projects and livestock operator outreach. Reductions in scavenging opportunities are expected to reduce eagle use near wind projects. Bat-specific minimization measures were informed by extensive species presence-absence surveys, migration telemetry studies, and mortality monitoring. Minimization measures will include blade feathering below manufacturer's cut-in speed at all projects from March 15 through November 15 from sunset to sunrise. Additionally, 4 projects (265 turbines) that are expected to have the highest risk to covered bat species and all bats will be feathered below 5.0 meters per second (m/s) July 15 through September 30 from sunset to sunrise when temperatures are below 10 degrees Celsius (50 degrees Fahrenheit). Blade feathering consists of turning turbine blades parallel to the prevailing wind direction to reduce rotation of the turbine rotors, which in turn reduces the likelihood of bat-turbine collisions. MidAmerican will conduct an annual monitoring program at each project throughout the life of the permit to confirm take permit compliance.

MidAmerican has committed to fully offsetting the impacts of the taking for all covered bat species through habitat restoration, preservation, and enhancement, as well as restoration and preservation of at-risk occupied artificial roost structures. Measures to offset the impacts to taking of bald eagles will include funding local or regional eagle rehabilitation, a toxic substance education and abatement program, and protection of key eagle nesting or foraging habitat.

National Environmental Policy Act

In compliance with NEPA (42 U.S.C. 4321 et seq.), the Service has prepared a DEIS, in which we analyze the proposed action and a reasonable range of alternatives to the proposed action.

Seven alternatives are analyzed in the DEIS.

• No-action alternative: No permit would be issued, and no HCP would be implemented.

• Alternative A: 5.0 m/s cut-in speed across all turbines for the entire bat active season.

• Alternative B: 5.0 m/s cut-in speed during fall bat migration at all turbines and at turbines within 1,000 ft of suitable habitat for Indiana and northern long-eared bats during the entire bat active season.

• Alternative C: 5.0 m/s cut-in speed during fall bat migration.

• Alternative D: Manufacturer's cut-in speed for the entire bat active season.

• The applicant's HCP alternative.

• Participation in the Midwest Wind MSHCP alternative.

The environmental consequences of each alternative were analyzed to determine if significant environmental impacts would occur.

EPA's Role in the EIS Process

The EPA is charged with reviewing all Federal agencies' EISs and commenting on the adequacy and acceptability of the environmental impacts of proposed actions in EISs. Therefore, EPA is publishing a notice in the Federal Register announcing this DEIS, as required under section 309 of the Clean Air Act. The publication date of EPA's notice of availability is the official beginning of the public comment period. EPA's notices are published on Fridays.

EPA serves as the repository (EIS database) for EISs prepared by Federal agencies. All EISs must be filed with EPA, which publishes a notice of availability on Fridays in the Federal Register. You may search for EPA comments on EISs, along with EISs themselves, at https://cdxnodengn.epa.gov/cdx-enepa-public/action/eis/search.

Public Availability of Comments

We will post on http://regulations.gov all public comments and information received electronically or via hardcopy. Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and the NEPA (42 U.S.C. 4371 et seq.) and its implementing regulations (40 CFR 1506.6; 43 CFR part 46).

Charles M. Wooley,
Acting Regional Director, Midwest Region.

[FR Doc. 2018-18989 Filed 8-30-18; 8:45 am]

BILLING CODE 4333-15-P